FEDERAL MARITIME COMMISSION

Ocean Transportation Intermediary License Applicants

Notice is hereby given that the following applicants have filed with the Federal Maritime Commission an application for license as a Non-Vessel-Operating Common Carrier and Ocean Freight Forwarder-Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants

Cargo Master, Inc., 2396 E. Pacifica Place, Suite 230, Rancho Dominguez, CA 90220. Officer:Mun K. Chong, President, (Qualifying Individual).

S.L.C. Shipping Inc., 18910 E. Gale Avenue, #8, Rowland Heights, CA 91748. Officer:James Karshun Kwan, President, (Qualifying Individual).

Titan Shipping Line Corp., 1627 81st Street, Brooklyn, NY 11214. Officer:Michekke Xiao, President, (Qualifying Individual).

Non-Vessel-Operating Common Carrier and Ocean Freight Forwarder Transportation Intermediary Applicants

Six-Master International Inc., 1971 W. 190th Street, Suite 150, Torrance, CA 90504. Officers:Jyhren Kuo, Managing Director, (Qualifying Individual), He Hu, CEO.

Orion Cargo Services Inc., 940 Jefferson Avenue, Suite 1R, Elizabeth, NJ 07201-1375. Officer:Hector Vilchis, President, (Qualifying Individual).

Ocean Freight Forwarder-Ocean Transportation Intermediary Applicants

GM International Freight Forwarders Corp, dba GM International Freight Forwarders, 8438 NW 66 Street, Miami, FL 33166. Officers:Guillermo Lopez, President, (Qualifying Individual), Yessima Siles, Vice President.

MBA Logistics, L.L.C., 11455 Narin Drive, Brighton, MI 48114. Officers:Martin Stapleton, Vice President, (Qualifying Individual), Seiko Stapleton, President.

Daryl Flood Warehouse & Movers, Inc., Dallas, 450 Airline Drive, Coppell, TX 75019. Officers:J. Kelly O'Connor, Vice President, (Qualifying Individual), Daryl R. Flood, President.

Dated: August 18, 2006.
Bryant L. VanBrakle,
Secretary.

[FR Doc. E6-13981 Filed 8-22-06; 8:45 am]

BILLING CODE 6730-01-P